DEPARTMENT OF STATE

Public Notice 8682]

Bureau of Oceans and International Environmental and Scientific Affairs; Certifications Pursuant to Section 609 of Public Law 101-162

SUMMARY: The Department of State, in consultation with the National Oceanic and Atmospheric Administration's National Marine Fisheries Service (NMFS), determined that royal red shrimp (Menopenaeus robustus) harvested in the Mediterranean Sea may be imported into the United States from Spain pursuant to Section 609 of Public Law 101-162. The Department of State has communicated this information to the Office of Field Operations of U.S. Customs and Border Protection.

DATES: Effective Date: On Publication.

FOR FURTHER INFORMATION CONTACT: Stephen J. Wilger, Office of Marine Conservation, Bureau of Oceans and International Environmental and Scientific Affairs, Department of State, Washington, DC 20520-7818; telephone: (202) 647-3263; email: wilgersj2@state.gov.

SUPPLEMENTARY INFORMATION: Section 609 of Public Law 101-162 (“Section 609”) prohibits imports of certain categories of shrimp unless the President certifies to the Congress by May 1, 1991, and annually thereafter, either: (1) That the harvesting nation has adopted a program governing the incidental capture of sea turtles in its commercial shrimp fishery comparable to the program in effect in the United States and has an incidental take rate comparable to that of the United States; or (2) that the fishing environment in the harvesting nation does not pose a threat of the incidental taking of sea turtles. The President has delegated the authority to make this certification to the Department of State (“the Department”). Revised State Department guidelines for making the required certifications were published in the Federal Register on July 2, 1999 (Vol. 64, No. 130, Public Notice 3086).

Section 609 Certifications are determined on a national basis, rather than on a fishery by fishery basis within a particular country. In particular, Certifications under Section 609(b)(2)(C) are granted only in cases where no shrimp fishery in a particular country poses a threat of the incidental taking of sea turtles. Since there are other shrimp fisheries in which Spanish vessels operate that could pose a threat to sea turtles, the Department is not able to determine that Spain qualifies for a national Certification pursuant to this Section.

Even in the absence of a national Certification, shrimp from non-certified countries that meet one of a set of specific criteria may be imported into the United States provided that certain additional conditions are met. The relevant exception in this case can be found in Section I(B)(d) of the Department of State's Revised Guidelines for the Implementation of Section 609 of Public Law 101-162, which allows imports of:

“(d) Shrimp harvested in any other manner or under any other circumstances that the Department of State may determine, following consultation with the [NOAA/NMFS], does not pose a threat of the incidental taking of sea turtles.”

The Department of State has consulted with NMFS and determined that imports of royal red shrimp (Menopenaeus robustus) from the Spanish Mediterranean shrimp trawl fleet may be imported into the United States pursuant to the Section I(B)(d) of the Department's implementing guidelines. Such imports must be accompanied by the State Department Form DS-2031 (“Shrimp Exporter's/Importer's Declaration”) and must indicate on the form that the import is eligible for importation into the United States by checking section 7(A)(4) for “shrimp harvested in a manner or under circumstances determined by the Department of State not to pose a threat of the incidental taking of sea turtles.” In addition, an official of the Government of Spain with knowledge of the method of harvest of the product must certify the DS-2031 forms accompanying any imports into the United States. All DS-2031 forms accompanying shrimp imports from Spain must be originals and signed by the competent domestic fisheries authority.

Dated: March 25, 2014.
David A. Balton,
Deputy Assistant Secretary of State for Oceans and Fisheries, Department of State.

[FR Doc. 2014-07707 Filed 4-4-14; 8:45 am]

BILLING CODE 4710-09-P